DEPARTMENT OF HOMELAND SECURITY

Federal Emergency Management Agency

44 CFR Part 67

[Docket ID FEMA-2015-0001; Internal Agency Docket No. FEMA-B-1149]

Proposed Flood Elevation Determinations for Jackson County, Arkansas, and Incorporated Areas

AGENCY: Federal Emergency Management Agency, DHS.

ACTION: Proposed rule; withdrawal.

SUMMARY: The Federal Emergency Management Agency (FEMA) is withdrawing its proposed rule concerning proposed flood elevation determinations for Jackson County, Arkansas, and Incorporated Areas.

DATES: This withdrawal is effective on August 31, 2015.

ADDRESSES: You may submit comments, identified by Docket No. FEMA-B-1149 to Luis Rodriguez, Chief, Engineering Management Branch, Federal Insurance and Mitigation Administration, Federal Emergency Management Agency, 500 C Street SW., Washington, DC 20472, (202) 646-4064, or (email) Luis.Rodriguez3@fema.dhs.gov.

FOR FURTHER INFORMATION CONTACT: Luis Rodriguez, Chief, Engineering Management Branch, Federal Insurance and Mitigation Administration, Federal Emergency Management Agency, 500 C Street SW., Washington, DC 20472, (202) 646-4064, or (email) Luis.Rodriguez3@fema.dhs.gov.

SUPPLEMENTARY INFORMATION: On November 2, 2010, FEMA published a proposed rulemaking at 75 FR 67319, proposing flood elevation determinations along one or more flooding sources in Jackson County, Arkansas, and Incorporated Areas. FEMA is withdrawing the proposed rulemaking.

Authority: 42 U.S.C. 4104; 44 CFR 67.4.

Dated: August 20, 2015.
Roy E. Wright,
Deputy Associate Administrator for Insurance and Mitigation, Department of Homeland Security, Federal Emergency Management Agency.

[FR Doc. 2015-21507 Filed 8-28-15; 8:45 am]

BILLING CODE 9110-12-P